DEPARTMENT OF TRANSPORTATION

Federal Aviation Administration

Request for Comments on Advisory Circular (AC) 183-35H, Airworthiness Designee Function Codes and Consolidated Directory for DMIR/DAR/ODAR/DAS/DOA and SFAR No. 36; Correction

AGENCY: Federal Aviation Administration (FAA), DOT.

ACTION: Request for comments; correction.

SUMMARY: This is a correction to a Request for Comments document published on July 8, 2002, (67 FR 45169) that announced a proposed change to AC 183-35H authorizing a new function code identified as Data Management Code 50 (pending). It will allow a Designated Airworthiness Representative and Organizational Designated Airworthiness Representative responsible for managing alterations programs leading to the issuance of a FAA Field approval and/or approval for return to service to alter U.S.-registered aircraft.

FOR FURTHER INFORMATION CONTACT: George Torres, (405) 954-6923.

Correction of Publication

In the FR Doc. 02-16905, beginning on page 45169 in the Federal Register issue of July 8, 2002, make the following corrections:

1. On page 45169, in column 3, in the third line up from the bottom, correct “authorizing is sought.” to read “authorizing is sought; or”.

2. On Page 45170, in column 1, in the sixth line up from the bottom, correct “address: georgetorres@mmac.iccbi.gov” to read “address: ” george.torres@faa.gov”.

Issued in Washington, DC, on August 2, 2002.
Diana Frohn,
Manager, General Aviation and Commercial Branch.

[FR Doc. 02-19999 Filed 8-9-02; 8:45 am]

BILLING CODE 4910-13-M